DEPARTMENT OF ENERGY

[Docket No. EA-98-L]

Application To Export Electric Energy; Western Systems Power Pool

AGENCY: Office Electricity Delivery and Energy Reliability, DOE.

ACTION: Notice of Application.

SUMMARY: Thirteen members of the Western Systems Power Pool (WSPP) are authorized to transmit electric energy from the United States to Canada pursuant to section 202(e) of the Federal Power Act. One authorized exporter, TransCanada Energy Marketing ULC (TCEM), has transferred its wholesale electric trading operations to an affiliate and requests that the electricity export authorization contained in Order No. EA-98-K be amended to reflect this change.

DATES: Comments, protests or requests to intervene must be submitted on or before April 30, 2009.

ADDRESSES: Comments, protests, or requests to intervene should be addressed as follows: Office Electricity Delivery and Energy Reliability (Mail Code OE-20), U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16U.S.C. 824a(e)).

On September 5, 1996, in Order No. EA-98-C, the Office of Fossil Energy (FE) of the Department of Energy (DOE) authorized 42 members of the WSPP to export electric energy to Canada. In several subsequent proceedings in the EA-98 docket, the list of members authorized to export was modified to add, delete, or reflect corporate name changes. The most recent order, EA-98-K, was issued on November 9, 2007, and authorizes 13 WSPP member companies individually to transmit electric energy to Canada. The international transmission facilities authorized for use by those exporters are owned by the Bonneville Power Administration, also a WSPP member. The facilities consist of two 500-kV transmission lines and one 230-kV transmission line that interconnect with facilities of BC Hydro, and one 230-kV line that interconnects with West Kootenay Power, Limited. The construction and operation of these international transmission facilities was previously authorized by Presidential Permits PP-10, PP-46, and PP-36, respectively. The current authorization to various members of the WSPP to export electric energy to Canada will expire on April 25, 2012.

On February 23, 2009, WSPP submitted an application on behalf of TCEM, one of the 13 authorized exporters, informing DOE that TCEM would transfer its wholesale electric trading operations to its newly formed affiliate, TransCanada Energy Sales Ltd. (TES), effective March 1, 2009, and requested an order be issued to WSPP removing TCEM as an authorized exporter and adding TES.

Procedural Matters: Any person desiring to become a party to this proceeding or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with DOE on or before the date listed above. Additional copies are to be filed directly with Matthew K. Segers, Wright & Talisman, P.C., 1200 G Street, NW., Suite 600, Washington, DC 20005-3802.

A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.Hopkins@hq.doe.gov.

Issued in Washington, DC, on March 26, 2009.
Anthony J. Como,
Director, Permitting and Siting, Office of Electricity Delivery and Energy Reliability.

[FR Doc. E9-7167 Filed 3-30-09; 8:45 am]

BILLING CODE 6450-01-P